FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date Reissued
14952N | Eagle Transportation Services, Inc., 848 Jesse Jewell Parkway, S.W., Gainesville, GA 30501 | April 3, 2001.
3240F | Freight Connections International, Ltd., 935 W. 175th Street, Homewood, IL 60430 | March 24, 2001.
16123N | Mid Cities Motor Freight, Inc., 6006 Lake Avenue, St. Joseph, MO 64504 | March 23, 2001.

Sandra L. Kusumoto,
Director, Bureau of Consumer Complaints and Licensing.

[FR Doc. 01-16853 Filed 7-3-01; 8:45 am]

BILLING CODE 6730-01-P